DEPARTMENT OF COMMERCE

National Oceanic and Atmospheric Administration

Proposed Information Collection; Comment Request; Marine Mammal Health and Stranding Response Program Survey for Stranding Network Participants

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Sarah Howlett, (301) 713-2322 or sarah.howlett@noaa.gov.

SUPPLEMENTARY INFORMATION:

I. Abstract

The National Marine Fisheries Service's (NMFS) Marine Mammal Health and Stranding Response Program will conduct program evaluations of the six NMFS regional stranding networks: Northeast, Southeast, Southwest, Northwest, Alaska, and Pacific Islands Regions. A survey will be used to gather data from a cross-section of stranding network participants in each region. The data will be collected regarding performance, organizational structure, objectives, and needs of the program. The information will be used to prioritize and discuss issues of concern and assist with future program management and planning.

II. Method of Collection

The survey will be conducted through a combination of telephone interviews, paper format (mailed), and electronic format via e-mail or online.

III. Data

OMB Number: None.

Form Number: None.

Type of Review: Regular submission.

Affected Public: Not-for-profit institutions; business or other for-profits organizations; State, Local, or Tribal Government; Federal Government.

Estimated Number of Respondents: 294.

Estimated Time per Response: 1 hour.

Estimated Total Annual Burden Hours: 294.

Estimated Total Annual Cost to Public: $22.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2008.
Gwellnar Banks,
Management Analyst, Office of the Chief Information Officer.

[FR Doc. E8-920 Filed 1-18-08; 8:45 am]

BILLING CODE 3510-22-P